DEPARTMENT OF TRANSPORTATION

Federal Highway Administration

Tier 1 Environmental Impact Statement: Lafayette Parish, LA

AGENCY: Federal Highway Administration (FHWA), DOT.

ACTION: Notice of intent.

SUMMARY: The FHWA is issuing this notice to advise the public that a Tier 1 Environmental Impact Statement (EIS) will be prepared for a proposed toll highway facility in the vicinity of Lafayette, Louisiana.

FOR FURTHER INFORMATION CONTACT: Mr. William Farr, Program Operations Manager, Federal Highway Administration, 5304 Flanders Drive, Suite A, Baton Rouge, Louisiana 70808, Telephone: (225) 757-7615, or Mr. Michael Mangham, Commission Chairperson, Lafayette Metropolitan Expressway Commission, 406 Audubon Boulevard, Lafayette, Louisiana 70503, Telephone: (337) 233-6200, or Dr. Eric Kalivoda, Assistant Secretary, Office of Planning and Programming, Louisiana Department of Transportation and Development, PO Box 94245, Baton Rouge, LA 70804-9245. Project information may be obtained from the project Internet Web site at http://www.lafayettexpressway.com/project.htm.

SUPPLEMENTARY INFORMATION: The FHWA, in cooperation with the Lafayette Metropolitan Expressway Commission (LMEC), and the Louisiana Department of Transportation and Development (LADOTD), will prepare a Tier 1 EIS on corridor alternatives for the proposed Lafayette Metropolitan Expressway to connect on new location to I-49 north of Lafayette, LA, I-10 west of Lafayette, LA, and US 90 south of Lafayette, LA. The proposed facility would be a controlled access toll road on new location with interchanges with I-10, I-49, and Johnston Street. Interchanges with other connecting cross streets will also be considered. The proposed facility would initially have four lanes with provision to expand to six lanes.

The new facility is considered necessary to provide for existing and future traffic demand and to improve the hurricane evacuation system.

At a minimum, the current project will examine, in addition to the no build alternative, three corridor build alternatives that were identified in the Lafayette Metropolitan Expressway Feasibility Study. Three corridors were identified in the study that ranged in length from 31 to 38 miles. The implementation cost estimate, including planning, design, right of way acquisition, and construction, was generally about the same for the various corridors ($760 million in 2005 dollars).

Letters describing the proposed action and soliciting comments will be sent to appropriate Federal, State, local agencies, tribes, elected officials and to private organizations and citizens who have previously expressed or are known to have interest in this proposal. Public meetings will be held. In addition, a public hearing will be held. Public notice will be given of the time and place of the public meetings and public hearing. The draft EIS will be available for public and agency review and comment prior to the public hearing. A formal scoping meeting will be held upon initiation of this project. Public scoping meetings will be scheduled to provide the public with information about the project and an opportunity to assist in formulating the scope of the study.

To ensure that the full range of issues related to this proposed project are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation of Federal programs and activities, apply to this program.)

Authority: 23 U.S.C. 315;23 CFR 771.123.

Issued on: December 2, 2005.
Joe A. Bloise,
Acting Division Administrator, FHWA, Louisiana Division.

[FR Doc. 05-24111 Filed 12-15-05; 8:45 am]

BILLING CODE 4910-22-M